DEPARTMENT OF THE INTERIOR

Bureau of Land Management

[CO-110-1060-JJ]

Public Hearings Addressing the Use of Helicopters and Motorized Vehicles During the Capture of Wild Horses

AGENCY: Bureau of Land Management, Department of the Interior.

ACTION: Notice of public hearings.

SUMMARY: Two public hearings addressing the use of motorized vehicles and helicopters during the capture of wild horses have been scheduled in Colorado in 2002. One hearing will address use in the Piceance-East Douglas Herd Management Area, White River Field Office, Meeker, Colorado; a second hearing will address use in the Little Book Cliffs Wild Horse Range, Grand Junction Field Office, Grand Junction, Colorado.

DATES: The public hearings will be held in May and June, 2002. The White River and Grand Junction field offices will publish exact dates and times for these hearings through public notices, local newspaper announcements and mailings.

ADDRESSES: The hearings will be held at the following locations:

1. White River Field Office; 73544 Highway 64; Meeker, Colorado

2. Grand Junction Field Office; 2815 H Road, Grand Junction, Colorado

SUPPLEMENTARY INFORMATION: The Piceance-East Douglas wild horse gather is scheduled for completion between June 15, 2002 and September 30, 2002.

The Bookcliffs Wild Horse Range wild horse gather is scheduled for completion between June 15, 2002 and September 30, 2002.

For additional information regarding the Meeker, Colorado public hearing contact James Cagney, Associate Field Manager, at 970-878-3803. For further information regarding the Grand Junction, Colorado public hearing contact Gerald Thygerson, Wild Horse Specialist, at 970-244-3000.

Dated: March 15, 2002.
Vernon Rholl,
Acting Field Office Manager.

[FR Doc. 02-11437 Filed 5-7-02; 8:45 am]

BILLING CODE 4310-JB-P